COMMITTEE FOR PURCHASE FROM PEOPLE WHO ARE BLIND OR SEVERELY DISABLED

Procurement List; Proposed Deletions

AGENCY: Committee for Purchase From People Who Are Blind or Severely Disabled.

ACTION: Proposed deletions from the Procurement List.

SUMMARY: The Committee is proposing to delete product(s) from the Procurement List that were furnished by nonprofit agencies employing persons who are blind or have other severe disabilities.

DATES: Comments must be received on or before: January 22, 2022.

ADDRESSES: Committee for Purchase From People Who Are Blind or Severely Disabled, 1401 S Clark Street, Suite 715, Arlington, Virginia 22202-4149.

FOR FURTHER INFORMATION CONTACT: For further information or to submit comments contact: Michael R. Jurkowski, Telephone: (703) 785-6404, or email CMTEFedReg@AbilityOne.gov.

SUPPLEMENTARY INFORMATION: This notice is published pursuant to 41 U.S.C. 8503(a)(2) and 41 CFR 51-2.3. Its purpose is to provide interested persons an opportunity to submit comments on the proposed actions.

Deletions

The following product(s) and service(s) are proposed for deletion from the Procurement List:

Product(s)

NSN(s)—Product Name(s): MR 1023—Holder, Pot, Deluxe, Green

Designated Source of Supply: Alphapointe, Kansas City, MO

Contracting Activity: Military Resale-Defense Commissary Agency

NSN(s)—Product Name(s):

MR 1124—Basket, Suction, Sink, Steel

MR 13035—Dispenser, Sugar, Plastic

MR 13074—Set, Bowls, Glass, Prep, 4 Piece

MR 13075—Set, Mini Grate and Slice

Designated Source of Supply: CINCINNATI ASSOCIATION FOR THE BLIND AND VISUALLY IMPAIRED, Cincinnati, OH

Contracting Activity: Military Resale-Defense Commissary Agency

NSN(s)—Product Name(s): 7125-01-667-1407—Cabinet, Storage, Blow-Molded, 72″, Platinum

Designated Source of Supply: MidWest Enterprises for the Blind, Inc., Kalamazoo, MI

Contracting Activity: GSA/FAS FURNITURE SYSTEMS MGT DIV, PHILADELPHIA, PA

NSN(s)—Product Name(s):

7420-01-484-4565—Portfolio, Calculator, Writing Pad and Pen, Leather-Look, Black, 6¼″ x 4¾″

7520-01-492-8463—Pen, Retractable, Neon, LVX Ink Gripper, Black, Fine point

7520-01-492-8464—Pen, Retractable, Neon, LVX Ink Gripper, Black, Medium point

Designated Source of Supply: MidWest Enterprises for the Blind, Inc., Kalamazoo, MI

Contracting Activity: GSA/FAS ADMIN SVCS ACQUISITION BR(2, NEW YORK, NY

NSN(s)—Product Name(s): 6645-01-467-8479—Clock, Wall, Black Custom Logo, 22″ Diameter

Designated Source of Supply: Chicago Lighthouse Industries, Chicago, IL

Contracting Activity: GSA/FAS ADMIN SVCS ACQUISITION BR(2, NEW YORK, NY

NSN(s)—Product Name(s): 7520-00-281-5896—Stapler, Long Reach, 12″ Throat, Black

Designated Source of Supply: Access: Supports for Living Inc., Middletown, NY

Contracting Activity: GSA/FAS ADMIN SVCS ACQUISITION BR(2, NEW YORK, NY

Service(s)

Service Type: Parts Machining

Mandatory for: U.S. Postal Service: National Inventory Control Center, Topeka, KS

Designated Source of Supply: Arizona Industries for the Blind, Phoenix, AZ

Contracting Activity: U.S. Postal Service, Washington, DC

Michael R. Jurkowski,
Acting Director, Business Operations.

[FR Doc. 2021-27904 Filed 12-22-21; 8:45 am]

BILLING CODE 6353-01-P